DEPARTMENT OF COMMERCE

International Trade Administration

Case Western Reserve University, et al.; Notice of Consolidated Decision on Applications for Duty-Free Entry of Scientific Instruments

This is a decision consolidated pursuant to section 6(c) of the Educational, Scientific, and Cultural Materials Importation Act of 1966 (Pub. L. 89-651, 80 Stat. 897; 15 CFR part 301). Related records can be viewed between 8:30 a.m. and 5 p.m. in Suite 4100W, Franklin Court Building, U.S. Department of Commerce, 1099 14th Street, NW., Washington, DC.

Comments: None received. Decision: Approved. No instrument of equivalent scientific value to the foreign instruments described below, for such purposes as each is intended to be used, is being manufactured in the United States.

Docket Number: 03-053. Applicant: Case Western Reserve University, Cleveland, OH 44106. Instrument: Scanning Near-Field Optical Microscope, Model ALPHASNOM. Manufacturer: WITEC, Germany. Intended Use: See notice at 69 FR 26074, May 11, 2004. Reasons: The foreign instrument provides: (1) The ability to perform tapping mode AFM imaging simultaneously with near field imaging, (2) > 200 nm bandwidth in the illuminating light source without having to change the near-field aperture and (3) performance of reflection mode confocal microscopy using a range of upper objectives. Advice received from: The National Institutes of Health, May 12, 2004.

Docket Number: 04-007. Applicant: Argonne National Laboratory, Argonne, IL 60439. Instrument: UHV STM Microscope with cryostat. Manufacturer: Unisoku Scientific Instruments, Japan. Intended Use: See notice at 69 FR 26074, May 11, 2004. Reasons: The foreign instrument provides: (1) An operating temperature of 1.8 °K, (2) in situ surface cleaving, (3) double stage mechanical damping and (4) a magnetic field to 7.0 Tesla. Advice received from: The National Institute of Standards and Technology, May 17, 2004.

Docket Number: 04-008. Applicant: California Institute of Technology, Pasadena, CA 91125. Instrument: Dual Beam SEM/FIB System, Model Nova 600 Nanolab. Manufacturer: FEI Company, the Netherlands. Intended Use: See notice at 69 FR 26074, May 11, 2004. Reasons: The foreign instrument provides: (1) Operation in high and low vacuum, with high and low energy electrons, (2) ability to work with both thick and thin samples and (3) laser interferometer capability. Advice received from: Sandia National Laboratories, February 12, 2004 (comparable case).

Docket Number: 04-009. Applicant: University of Colorado, Boulder, CO 80303. Instrument: Cryogenic Fabry-Perot Etalon Controller (accessory). Manufacturer: IC Optical Systems Ltd., United Kingdom. Reasons: This is a compatible accessory for an existing instrument purchased for use by the applicant. It is pertinent to the intended uses and we know of no domestic accessory which can be readily adapted to the previously imported foreign instrument.

The capabilities of each of the foreign instruments described above are pertinent to each applicant's intended purposes and we know of no other instrument or apparatus being manufactured in the United States which is of equivalent scientific value to any of the foreign instruments.

Gerald A. Zerdy,
Program Manager, Statutory Import Programs Staff.

[FR Doc. 04-11806 Filed 5-24-04; 8:45 am]

BILLING CODE 3510-DS-P